DEPARTMENT OF COMMERCE

International Trade Administration

[A-533-867]

Welded Stainless Pressure Pipe From India: Preliminary Results and Partial Rescission of Antidumping Duty Administrative Review; 2021-2022

AGENCY: Enforcement and Compliance, International Trade Administration, Department of Commerce.

SUMMARY: The U.S. Department of Commerce (Commerce) preliminarily finds that certain producers and/or exporters subject to this administrative review sold welded stainless pressure pipe (WSPP) from India at less than normal value during the period of review (POR), November 1, 2021, through October 31, 2022. We invite interested parties to comment on these preliminary results.

DATES: Applicable December 7, 2023.

FOR FURTHER INFORMATION CONTACT: Charles Doss or John Conniff, AD/CVD Operations, Office III, Enforcement and Compliance, International Trade Administration, U.S. Department of Commerce, 1401 Constitution Avenue NW, Washington, DC 20230; telephone: (202) 482-4474 and (202) 482-1009, respectively.

SUPPLEMENTARY INFORMATION:

Background

On November 17, 2016, Commerce published in the Federal Register the antidumping order on WSPP from India.¹ On November 1, 2022, Commerce published in the Federal Register a notice of opportunity to request an administrative review of the Order.² On January 3, 2023, based on timely requests for review, in accordance with section 751(a)(1) of the Tariff Act of 1930, as amended (the Act) and 19 CFR 351.221(c)(1)(i), Commerce initiated an administrative review of the Order covering 23 companies.³ On January 25, 2023, we selected Jindal Saw Limited (JSL) and Ratnamani Metals & Tubes Ltd. (Ratnamani) as the mandatory respondents in this administrative review.⁴ Subsequently, on March 23, 2023, JSL timely withdrew its request for review and, consequently, on April 4, 2023, Prakash Steelage Limited (PSL) was selected as a mandatory respondent.⁵ Pursuant to section 751(a)(3)(A) of the Act, Commerce extended the deadline for the preliminary results until November 30, 2023.⁶

¹ See Welded Stainless Pressure Pipe from India: Antidumping and Countervailing Duty Orders, 81 FR 81062 (November 17, 2016) (Order).

² See Antidumping or Countervailing Duty Order, Finding, or Suspended Investigation; Opportunity to Request Administrative Review and Join Annual Inquiry Service List, 87 FR 65750 (November 1, 2022).

³ See Initiation of Antidumping and Countervailing Duty Administrative Reviews, 88 FR 50 (January 3, 2023).

⁴ See Memorandum, “Respondent Selection,” dated January 25, 2023, at 1.

⁵ See JSL's Letter, “Withdrawal of Request for Antidumping Duty Administrative Review for the Period of November 01, 2021, to October 31, 2022,” dated March 23, 2023; see also Memorandum, “Selection of Additional Respondent for Individual Examination,” dated April 4, 2023, at 1. Additionally, Commerce has preliminarily determined that PSL and Seth Steelage Private Limited (SSPL) should be collapsed and treated as a single entity, collectively PSL/SSPL. See Memorandum, “Decision Memorandum for the Preliminary Results of the Administrative Review of the Antidumping Duty Order on Welded Stainless Pressure Pipe from India; 2021-2022,” dated concurrently with, and hereby adopted by, this notice (Preliminary Decision Memorandum), at the section titled, “Affiliation and Collapsing.”

⁶ See Memoranda, “Extension of Deadline for the Preliminary Results of Antidumping Duty Administrative Review,” dated July 12, 2023; and “Second Extension of Deadline for Preliminary Results of Antidumping Duty Administrative Review,” dated October 25, 2023.

For a complete description of the events that followed the initiation of the review, see the Preliminary Decision Memorandum. A list of topics included in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Scope of the Order

The merchandise subject to the Order is welded stainless pressure pipe from India. For a complete description of the scope, see the Preliminary Decision Memorandum.

Methodology

Commerce is conducting this review in accordance with section 751(a)(2) of the Act. Export price is calculated in accordance with section 772 of the Act. Normal value is calculated in accordance with section 773 of the Act. For a full description of the methodology underlying our conclusions, see the Preliminary Decision Memorandum.

Partial Rescission of Administrative Review

Pursuant to 19 CFR 351.213(d)(1), Commerce will rescind an administrative review, in whole or in part, if the parties that requested a review withdraw the request within 90 days of the date of publication of the notice of initiation. Both SSPL and JSL timely withdrew the only requests for review for each company. With respect to SSPL, because we later selected PSL as a mandatory respondent and we have preliminarily determined that SSPL is part of a single entity with PSL, SSPL continues to be subject to the instant review. In accordance with 19 CFR 351.213(d)(1), Commerce is rescinding this administrative review with respect to JSL.

Rate for Non-Examined Companies

For the rate for companies not selected for individual examination in an administrative review, generally, Commerce looks to section 735(c)(5) of the Act, which provides instructions for calculating the all-others rate in a less-than-fair-value investigation. Under section 735(c)(5)(A) of the Act, the all-others rate is normally “an amount equal to the weighted average of the estimated weighted-average dumping margins established for exporters and producers individually investigated, excluding any zero or de minimis margins, and any margins determined entirely {on the basis of facts available}.” In this review, we have preliminarily calculated weighted-average dumping margins of 1.71 percent for Ratnamani and zero percent for PSL/SSPL. Therefore, in accordance with section 735(c)(5)(A) of the Act, we are preliminarily applying Ratnamani's weighted-average dumping margin of 1.71 percent to the non-examined companies because this is the only rate that is not zero, de minimis, or based entirely on facts available.

Preliminary Results of Review

We preliminarily determine the following estimated weighted-average dumping margins exist for the period November 1, 2021, through October 31, 2022:

Exporter/producer | Weighted-average dumping margin (percent)
Ratnamani Metals & Tubes Ltd | 1.71
Prakash Steelage Ltd/Seth Steelage Pvt. Ltd | 0.00
Apex Tubes Private Ltd | 1.71
Apurvi Industries | 1.71
Arihant Tubes | 1.71
Divine Tubes Pvt. Ltd | 1.71
Heavy Metal & Tubes | 1.71
Hindustan Inox. Limited | 1.71
J.S.S. Steelitalia Ltd | 1.71
Linkwell Seamless Tubes Private Limited | 1.71
Maxim Tubes Company Pvt. Ltd | 1.71
MBM Tubes Pvt. Ltd | 1.71
Mukat Tanks & Vessel Ltd | 1.71
Neotiss Ltd | 1.71
Quality Stainless Pvt. Ltd | 1.71
Raajranta Metal Industries Ltd | 1.71
Ratnadeep Metal & Tubes Ltd | 1.71
Remi Edelstahl Tubulars | 1.71
Shubhlaxmi Metals & Tubes Private Limited | 1.71
SLS Tubes Pvt. Ltd | 1.71
Steamline Industries Ltd | 1.71

Disclosure and Public Comment

We intend to disclose the calculations performed to parties within five days after the date of publication of this notice in the Federal Register.⁷ Pursuant to 19 CFR 351.309(c), interested parties may submit case briefs to Commerce no later than 30 days after the date of publication of this notice. Rebuttal briefs, limited to issues raised in the case briefs, may be filed not later than five days after the date for filing case briefs.⁸ Interested parties who submit case briefs or rebuttal briefs in this proceeding must submit: (1) a table of contents listing each issue; and (2) a table of authorities.⁹

⁷ See 19 CFR 351.224(b).

⁸ See 19 CFR 351.309(d).

⁹ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁰ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹¹

¹⁰ We use the term “issue” here to describe an argument that Commerce would normally address in a comment of the Issues and Decision Memorandum.

¹¹ See Administrative Protective Order, Service, and Other Procedures in Antidumping and Countervailing Duty Proceedings; Final Rule, 88 FR 67069 (September 29, 2023).

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5:00 p.m. Eastern Time within 30 days after the date of publication of this notice.

Final Results of Review

Unless extended, we intend to issue the final results of this administrative review, which will include the results of our analysis of all issues raised in the case and rebuttal briefs, within 120 days of publication of these preliminary results in the Federal Register.¹²

¹² See section 751(a)(3)(A) of the Act; and 19 CFR 351.213(h).

Assessment Rates

Upon completion of this administrative review, pursuant to section 751(a)(2)(A) of the Act, Commerce shall determine, and U.S. Customs and Border Protection (CBP) shall assess, antidumping duties on all appropriate entries of subject merchandise.

For individually examined respondents whose weighted-average dumping margin is not zero or de minimis (i.e., less than 0.50 percent), we will calculate importer-specific ad valorem antidumping duty assessment rates based on the ratio of the total amount of dumping calculated for the importer's examined sales to the total entered value of those same sales in accordance with 19 CFR 351.212(b)(1). If the respondent has not reported entered values, we will calculate a per-unit assessment rate for each importer by dividing the total amount of dumping calculated for the examined sales made to that importer by the total quantity associated with those sales. To determine whether an importer-specific, per-unit assessment rate is de minimis, in accordance with 19 CFR 351.106(c)(2), we also will calculate an importer-specific ad valorem ratio based on estimated entered values. Where either a respondent's weighted average dumping margin is zero or de minimis, or an importer-specific ad valorem assessment rate is zero or de minimis, we intend to instruct CBP to liquidate appropriate entries without regard to antidumping duties.¹³

¹³ See 19 CFR 351.106(c)(2); see also Antidumping Proceeding: Calculation of the Weighted-Average Dumping Margin and Assessment Rate in Certain Antidumping Proceedings; Final Modification, 77 FR 8101, 8103 (February 14, 2012).

For entries of subject merchandise during the POR produced by each individually examined respondent for which the producer did not know that the merchandise was destined for the United States, we will instruct CBP to liquidate such entries at the all-others rate (i.e., 8.35 percent) if there is no rate for the intermediate company(ies) involved in the transaction.¹⁴

¹⁴ See Order, 81 FR at 81063; see also Antidumping and Countervailing Duty Proceedings: Assessment of Antidumping Duties, 68 FR 23954 (May 6, 2003).

For those companies which were not individually examined, we will instruct CBP to assess antidumping duties at an ad valorem rate equal to the weighted-average dumping margin determined for the non-examined companies in the final results of this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for each specific company listed above will be equal to the weighted-average dumping margin established in the final results of this administrative review, except if the rate is less than 0.50 percent and, therefore, de minimis within the meaning of 19 CFR 351.106(c)(1), in which case the cash deposit rates will be zero; (2) for previously reviewed or investigated companies not participating in this review, the cash deposit rate will continue to be the company-specific rate published for the most recently completed segment of this proceeding in which the producer or exporter participated; (3) if the exporter is not a firm covered in this review, a prior review, or the original investigation but the producer is, the cash deposit rate will be the rate established for the most recently completed segment of this proceeding for the producer of the subject merchandise; and (4) the cash deposit rate for all other producers or exporters will continue to be the all-others rate of 8.35 percent.¹⁵ These cash deposit requirements, when imposed, shall remain in effect until further notice.

¹⁵ See Order, 81 FR at 81063.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of doubled antidumping duties, and/or an increase in the amount of antidumping duties by the amount of the countervailing duties.

Notification to Interested Parties

We are issuing and publishing these preliminary results of review in accordance with sections 751(a)(1) and 777(i)(1) of the Act, 19 CFR 351.213(h)(2), and 19 CFR 351.221(b)(4).

Dated: November 30, 2023.
Abdelali Elouaradia,
Deputy Assistant Secretary for Enforcement and Compliance.

Appendix

List of Topics Discussed in the Preliminary Decision Memorandum

I. Summary

II. Background

III. Scope of the Order

IV. Partial Rescission of Review

V. Affiliation and Collapsing

VI. Companies Not Selected for Individual Examination

VII. Discussion of the Methodology

VIII. Recommendation

[FR Doc. 2023-26878 Filed 12-6-23; 8:45 am]

BILLING CODE 3510-DS-P